DEPARTMENT OF ENERGY

Federal Energy Regulatory Commission

Notice of Application Tendered for Filing With the Commission, Establishing Procedural Schedule for Relicensing, and a Deadline for Submission of Final Amendments

December 23, 2002.

Take notice that the following hydroelectric application has been filed with the Commission and is available for public inspection.

a. Type of Application: New Major License.

b. Project No.: 2177-053.

c. Date Filed: December 13, 2002.

d. Applicant: Georgia Power Company.

e. Name of Project: Middle Chattahoochee Project.

f. Location: On the Chattahoochee River, in Harris and Muscogee Counties, Georgia; Lee and Russell Counties, Alabama; near the cities of Columbus, Georgia and Phenix City, Alabama. The project does not affect Federal lands.

g. Filed Pursuant to: Federal Power Act 16 U.S.C. 791 (a)-825(r).

h. Applicant Contact: George Martin, Relicensing Project Manger, Georgia Power Company, 22nd Floor, Bin 10221, 241 Ralph McGill Blvd., NE., Atlanta, Georgia 30308, (404)-506-1357 or gamartin@southernco.com.

i. FERC Contact: Ron McKitrick, (770) 452-3778 or ronald.mckitrick@ferc.gov.

j. Deadline for filing comments on the application: 60 days from date of this notice.

All documents (original and eight copies) should be filed with: Magalie R. Salas, Secretary, Federal Energy Regulatory Commission, 888 First Street, NE., Washington, DC 20426.

k. Cooperating agencies: We are asking Federal, state, local, and tribal agencies with jurisdiction and /or special expertise with respect to environmental issues to cooperate with us in the preparation of the environmental document Agencies who would like to request cooperation status should follow the instruction for filing comments described in the item j above. Requests for cooperating agency status may be filed electronically via the Internet in lieu of paper. The Commission strongly encourages electronic filings. See 18 CFR 385.2001(a)(1)(iii) and the instructions on the Commission's Web site ( http://www.ferc.gov ) under the “e-Filing” link.

l. This application is not ready for environmental analysis at this time.

m. The proposed Middle Chattahoochee Project includes three developments: Goat Rock Development consisting of: (1) A 965-acre impoundment; (2) a 75foot-high concrete reinforced dam located at river mile (RM) 172.2; (3) a 909.5-foot-long fixed crest spillway structure topped with 4-foot-high wooden flashboards; (4) a 200-foot-long and 77-foot-long non-overflow section; (5) a 173-foot-long combined powerhouse and intake section; (6) four trash gates on the east end of the intake having a total length of 74 feet; (7) two new horizontal generating units (to replace 2 existing units) with a nameplate rating of 8.7 MW each, one vertical generating unit with a nameplate rating of 6.9 MW, and three horizontal generating units with a nameplate rating of 5.0 MW; (8) a total generating capacity of 39.3 MW, a total hydraulic capacity of 9,877 cfs, and average annual generation of 151,120,490 kWh.

Oliver Development consisting of: (1) A 2,280-acre impoundment; (2) a 70-foot-high concrete reinforced dam located at RM 163.5; (3) a 1,324-foot-long gated spillway structure which includes 33 16-foot-high by 35-foot-long radial-arm taintor gates, and one 16-foot-high by 11-foot-long trash gate; (4) a 284-foot-long and 215-foot-long non-overflow section; (5) a 198-foot-long combined powerhouse and intake section; (6) three vertical generating units with a nameplate rating of 18 MW each, and one vertical generating unit with a nameplate rating of 6.0 MW; and (7) a total generating capacity of 60 MW, a total hydraulic capacity of 12,496 cfs, and average annual generation of 234,019,210 kWh.

North Highlands Development consisting of: (1) A 131-acre impoundment; (2) a 36foot-high concrete reinforced dam located at RM 162.5 (3) a curved 705-foot-long spillway section topped with 3.6-foot-high flashboards; (4) a 46-foot-long and 40-foot-long non-overflow section; (5) a 193-foot-long combined power house and intake section; (6) three vertical generating units with a nameplate rating of 9.2 MW each, and one vertical generating unit with a nameplate rating of 2.0 MW; (7) a total generating capacity of 29.6 MW, a total hydraulic capacity of 13,031 cfs, and average annual generation of 138,832,160 kWh.

The three developments of the Middle Chattahoochee Project have a total installed capacity of 128.9 megawatts (MW) and generates about 524,000 megawatt-hours (MWh) of electric energy annually. All generated power is utilized within the applicant's electric utility system.

n. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

o. Procedural schedule and final amendments: At this time we do not anticipate the need for preparing a draft EA. We intend to prepare a single environmental document. The EA will include our recommendations for operating procedures and environmental enhancement measures that should be part of any license issued by the Commission. Recipients will have 60 days to provide the Commission with any written comments on the EA. All comments filed with the Commission will be considered in the Order taking final action on the license applications. However, should substantive comments requiring reanalysis be received on the NEPA document, we would consider preparing a subsequent NEPA document.

The application will be processed according to the following Hydro Licensing Schedule. Revisions to the schedule may be made as appropriate.

Issue Acceptance letter: February 2003.

Notice soliciting final terms and conditions: February 2003.

Deadline for Agency Recommendations: April 2003.

Notice of the availability of the EA: August 2003.

Public Comments on EA due: October 2004.

Ready for Commission's decision on the application: April 2004.

Final amendments to the application must be filed with the Commission no later than 45 days from the issuance date of the notice soliciting final terms and conditions.

p. With this notice, we are initiating consultation with the Georgia and Alabama State Historic Preservation Officers as required by § 106, National Historic Preservation Act, and the regulations of the Advisory Council on Historic Preservation, 36 CFR, part 800.

Linwood A. Watson, Jr.,
Deputy Secretary.

[FR Doc. 02-32876 Filed 12-27-02; 8:45 am]

BILLING CODE 6717-01-P